DEPARTMENT OF AGRICULTURE

Food Safety and Inspection Service

[Docket No. FSIS-2013-0050]

Codex Alimentarius Commission: Meeting of the Codex Committee on Contaminants in Food

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 27, 2014. The objective of the public meeting is to provide information and receive public comments on agenda items and draft U.S. positions that will be discussed at the 8th Session of the Codex Committee on Contaminants in Food (CCCF) of the Codex Alimentarius Commission (Codex), which will be held in The Hague, The Netherlands, March 31-April 4, 2014. The Under Secretary for Food Safety and FDA recognize the importance of providing interested parties the opportunity to obtain background information on the 8th Session of the CCCF and to address items on the agenda.

DATES: The public meeting is scheduled for Thursday, February 27, 2014, from 10:00 a.m. to 12:00 p.m.

ADDRESSES: The public meeting will take place at The Food and Drug Administration (FDA), Harvey W. Wiley Federal Building, Room 1A-003, Center for Food Safety and Applied Nutrition (CFSAN), 5100 Paint Branch Parkway, College Park, MD 20740. Documents related to the 8th Session of the CCCF will be accessible via the World Wide Web at http://www.codexalimentarius.org/meetings-reports/en/. Nega Beru, U.S. Delegate to the 8th Session of the CCCF, invites interested U.S. parties to submit their comments electronically to the following email address henry.kim@fda.hhs.gov.

REGISTRATION: Attendees may register electronically at the same email address provided above by February 24, 2014. The meeting will be held in a Federal building; therefore, early registration is encouraged as it will expedite entry into the building and its parking area. You should also bring photo identification and plan for adequate time to pass through security screening systems. If you require parking, please include the vehicle make and tag number when you register. Attendees that are not able to attend the meeting in person but wish to participate may do so by phone.

CALL-IN NUMBER: If you wish to participate in the public meeting for the 8th Session of CCCF by conference call, please use the call-in number and participant code listed below.

Call-in Number: 1-866-707-4534

Participant Code: 8731753#

Contact for Further Information About the 8th Session of the CCCF and the Public Meeting: Henry Kim, Ph.D., Office of Food Safety, CFSAN/FDA, HFS-317, 5100 Paint Branch Parkway, College Park, MD 20740; Telephone: (240) 402-2023, Fax: (301) 436-2632, Email: mailto:henry.kim@fda.hhs.gov or Doreen Chen-Moulec, U.S. Codex Office, 1400 Independence Avenue SW., Washington, DC; Telephone (202) 205 7760, Email: Doreen.Chen-Moulec@fsis.usda.gov.

SUPPLEMENTARY INFORMATION:

Background

Codex was established in 1963 by two United Nations organizations, the Food and Agriculture Organization (FAO) and the World Health Organization (WHO). Through adoption of food standards, codes of practice, and other guidelines developed by its committees, and by promoting adoption and implementation by governments, Codex seeks to protect the health of consumers and ensure that fair practices are used in the food trade.

The CCCF is responsible for:

(a) Establishing or endorsing permitted maximum levels, and where necessary revising existing guideline levels, for contaminants and naturally occurring toxicants in food and feed;

(b) preparing priority lists of contaminants and naturally occurring toxicants for risk assessment by the Joint FAO/WHO Expert Committee on Food Additives (JECFA);

(c) considering and elaborating methods of analysis and sampling for the determination of contaminants and naturally occurring toxicants in food and feed;

(d) considering and elaborating standards or codes of practice for related subjects; and

(e) considering other matters assigned to it by the Codex Alimentarius Commission in relation to contaminants and naturally occurring toxicants in food and feed.

The Committee is chaired by The Netherlands.

Issues To Be Discussed at the Public Meeting

The following items on the Agenda for the 8th Session of the CCCF will be discussed during the public meeting:

• Matters Referred to the CCCF by the Codex Alimentarius Commission and/or its subsidiary bodies.

• Matters of Interest Arising from FAO and WHO (including JECFA).

• Matters of Interest Arising from other International Organizations.

• Proposed Draft Revision of the Maximum Levels for Lead in Selected Commodities in the General Standard for Contaminants and Toxins in Food and Feed.

• Proposed Draft Maximum Levels for Arsenic in Rice (Raw Rice and Polished Rice).

• Draft Maximum Levels for Deoxynivalenol (DON) in Cereals and Cereal-based Products and Associated Sampling Plans.

• Proposed Draft Maximum Levels for Acetylated Derivatives in Cereals and Cereal-Based Products.

• Proposed Draft Maximum Levels for Fumonisins in Maize and Maize Products and Associated Sampling Plans.

• Proposed Draft Annex for the Prevention and Reduction of Aflatoxins and Ochratoxin A Contamination in Sorghum (Code of Practice for the Prevention and Reduction of Mycotoxin Contamination in Cereals).

• Proposed Draft Code of Practice for Weed Control to Prevent and Reduce Pyrrolizidine Alkaloid Contamination in Food and Feed.

• Editorial Amendments to the General Standard for Contaminants and Toxins in Food and Feed.

• Discussion Paper on the Development of a Code of Practice for the Prevention and Reduction of Arsenic Contamination in Rice.

• Discussion Paper on the Possible Revision of the Code of Practice for Prevention and Reduction of Mycotoxin Contamination in Cereals.

• Discussion Paper on Aflatoxins in Cereals.

• Discussion Paper on the Review of the Guideline Levels for Methylmercury in Fish and Predatory Fish.

• Discussion Paper on the Establishment of a Maximum Level for Total Aflatoxins in Ready-to-Eat Peanuts and Associated Sampling Plan.

• Discussion Paper on Halogenated Solvents.

• Priority List of Contaminants and Naturally Occurring Toxicants Proposed for Evaluation by JEFCA.

Each issue listed will be fully described in documents distributed, or to be distributed, by the Secretariat prior to the meeting. Members of the public may access or request copies of these documents (see ADDRESSES).

Public Meeting

At the February 27, 2014 public meeting, draft U.S. positions on the agenda items will be described, discussed, and attendees will have the opportunity to pose questions and offer comments. Written comments may be offered at the meeting or sent to Dr. Henry Kim for the 8th Session of the CCCF (see ADDRESSES). Written comments should state that they relate to activities of the 8th Session of the CCCF.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on February 12, 2014.
Mary Frances Lowe,
U.S. Manager for Codex Alimentarius.

[FR Doc. 2014-03715 Filed 2-19-14; 8:45 am]

BILLING CODE 3410-DM-P